DEPARTMENT OF ENERGY

Federal Energy Regulatory Commission

[Docket Nos. ER06-301-000; ER06-301-001]

Xcel Energy Services, Inc.; Notice of Technical Conference

May 31, 2006.

Take notice that the Commission will convene a technical conference on Monday, June 12, 2006, at 10 a.m. (EST), in a room to be designated at the offices of the Federal Energy Regulatory Commission, 888 First Street, NE., Washington DC 20426.

The technical conference will explore the issues raised by Xcel Energy Services, Inc.'s proposed Services H and I, as discussed in the Commission's order issued on May 5, 2006.¹ Those issues include why the transfer price proposed in Service Schedule H is different from the transfer price proposed in Service Schedule I, and why Xcel needs both service schedules.

¹ Xcel Energy Services, Inc., 115 FERC ¶ 61,148 (2006).

FERC conferences are accessible under section 508 of the Rehabilitation Act of 1973. For accessibility accommodations please send an e-mail to accessibility@ferc.gov or call toll free (866) 208-3372 (voice) or 202-208-1659 (TTY), or send a FAX to 202-208-2106 with the required accommodations.

All interested persons are permitted to attend. For further information please contact Donna Brent at (202) 502-6646 or e-mail donna.brent@ferc.gov.

Magalie R. Salas,
Secretary.

[FR Doc. E6-8742 Filed 6-5-06; 8:45 am]

BILLING CODE 6717-01-P